DEPARTMENT OF COMMERCE

National Oceanic and Atmospheric Administration

50 CFR Part 660

[Docket No. 0907301200-91202-01]

RIN 0648-AY07

Magnuson-Stevens Act Provisions; Fisheries off West Coast States; Pacific Coast Groundfish Fishery; 2009-2010 Biennial Specifications and Management Measures for Canary Rockfish and Petrale Sole

AGENCY: National Marine Fisheries Service (NMFS), National Oceanic and Atmospheric Administration (NOAA), Commerce.

ACTION: Proposed rule; request for comments.

SUMMARY: NMFS proposes a rule to revise the 2009 management measures for petrale sole and to revise the 2010 harvest specifications and management measures for petrale sole and canary rockfish taken in the U.S. exclusive economic zone (EEZ) off the coasts of Washington, Oregon, and California.

DATES: Comments on this proposed rule must be received no later than 5 p.m., local time on October 13, 2009.

ADDRESSES: You may submit comments, identified by RIN 0648-AY07 by any one of the following methods:

• Electronic Submissions: Submit all electronic public comments via the Federal eRulemaking Portal http://www.regulations.gov.

• Fax: 206-526-6736, Attn: Gretchen Arentzen

• Mail: Barry A. Thom, Acting Regional Administrator, Northwest Region, NMFS, 7600 Sand Point Way NE, Seattle, WA 98115-0070, Attn: Gretchen Arentzen.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields if you wish to remain anonymous). Attachments to electronic comments will be accepted in Microsoft Word, Excel, WordPerfect, or Adobe PDF file formats only.

Copies of the Draft Environmental Assessment (DEA) prepared for this action is available from the NMFS Northwest Region website at http://www.nwr.noaa.gov or from the mailing and street addresses listed above.

FOR FURTHER INFORMATION CONTACT: Gretchen Arentzen (Northwest Region, NMFS), phone: 206-526-6147, fax: 206-526-6736 and e-mail gretchen.arentzen@noaa.gov.

SUPPLEMENTARY INFORMATION:

Electronic Access

This proposed rule is accessible via the Internet at the Office of the Federal Register's Website at http://www.gpoaccess.gov/fr/index.html. Background information and documents are available at the Pacific Fishery Management Council's website at http://www.pcouncil.org/.

Background

The 2009 and 2010 ABCs, OYs and HGs for Pacific coast groundfish species were established in the final rule for the 2009-2010 groundfish harvest specifications and management measures (74 FR 9874, March 6, 2009). This rule proposes interim measures for two species. For petrale sole this action would reduce catches in 2009 by implementing more restrictive management measures, lower the 2010 OY for petrale sole, and implement more restrictive management measures in 2010 to keep projected impacts below the new 2010 OY. For canary rockfish this action would lower the 2010 OY and implement more restrictive 2010 management measures to keep projected impacts below the new 2010 OY. These changes are being proposed because the PFMC received new stock assessments that indicate the stocks are in worse shape than we had thought at the beginning of 2009.

The Council reviewed a new stock assessment for petrale sole in June, considered questions raised by the Stock Assessment and Review Panel (STAR Panel) and the Scientific and Statistical Committee (SSC), and asked the SSC to review the open issues and report back to the Council in September. While there is uncertainty regarding the results of the final stock assessment, it is likely that, under any outcome, the stock will be overfished at the beginning of 2011 if the entire current petrale OYs are taken in 2009 and 2010. In September the Council will consider the updated information and make a final recommendation for the petrale changes in 2009 and 2010, and make its initial recommendations for management for 2011 and beyond. NMFS anticipates implementing a final rule for 2009 and 2010 in October. The canary rockfish assessment was an update of the prior assessment, incorporating revised historic catch data. This assessment concluded that the stock is more depleted than the previous assessment had indicated. The Council approved the new stock assessment, and the assessment authors will develop a rebuilding analysis. The Council will use the results of the rebuilding analysis in November to consider likely revisions to the rebuilding plan for 2011 and beyond and to recommend OY and harvest revisions in 2010. NMFS anticipates implementing the final rule for 2010 in December 2009.

This action is needed to respond to the most recently available stock status information during the remainder of 2009 and in 2010, while NMFS and the Council complete the stock assessments, revised rebuilding plans, EIS, and full rulemaking for the 2011 and 2012 specifications and management measures for the entire groundfish fishery.

The interim measures being proposed in this rule in combination with the existing regulations are designed to prevent the stock status of petrale sole from falling below the overfished threshold at the beginning of 2011, or to speed the rebuilding of petrale sole if it is found to be overfished. These interim measures are also intended to facilitate rebuilding and to ease negative impacts on industry from the anticipated lower 2011-2012 canary rockfish harvest specifications, and more restrictive management measures.

The Council's policies on setting ABCs, OYs, other harvest specifications, and management measures are discussed in the preamble to the December 31, 2008, proposed rule (73 FR 80516) for 2009-2010 harvest specifications and management measures.

Routine management measures, as described in the preamble to the 2009-2010 harvest specifications and management measure proposed rule (73 FR 80516, December 31, 2008), will continue to be adjusted to modify fishing behavior during the fishing year to allow a harvest specification to be achieved, or to prevent a harvest specification from being exceeded.

The following preamble discussion is divided into two parts: harvest specifications and management measures for petrale sole in 2009 and 2010; and harvest specifications and management measures for canary rockfish in 2010.

Harvest Specifications and Management Measures for Petrale Sole in 2009-2010

2004 Petrale Sole Stock Assessment

Petrale sole was last assessed in 2004. The result of that stock assessment was the best available science at the time that the 2007-2008 and the 2009-2010 harvest specifications were developed. For additional discussion of the results of the 2004 petrale sole stock assessment, see the September 29, 2006 proposed rule (71 FR 57764). The 2009-2010 ABCs are based on the 2004 stock assessment which used the default F 40 percent FMSY proxy and the 2009-2010 OYs are derived using the 40-10 harvest policy applied to the ABC for both the northern and southern assessment areas. Also an additional 25 percent reduction was made in the OY contribution for the southern area due to assessment uncertainty, as a precautionary measure. The March 6, 2009 final rule (74 FR 9874) established the 2009 and 2010 coastwide petrale sole harvest specifications, including the OYs of 2,433 mt in 2009 and 2,393 mt in 2010.

2009 Petrale Sole Stock Assessment

A new, full stock assessment for petrale sole was presented to the Council at their June 2009 meeting. The draft assessment indicated the stock is depleted to 11.6 percent of its unfished biomass. If the Bmsy management target remained the same as in the 2004 assessment, at 40 percent of the unfished biomass using the proxy for BMSY, the 2009 stock assessment indicates that petrale sole would be overfished in 2011. However, the stock assessment review panel recommended establishing a management target using the biomass that would support maximum sustainable yield (BMSY) as determined from the assessment (referred to as a directly-estimated Bmsy, as opposed to proxy BMSY). This management target was recommended, rather than the standard proxy BMSY, given that BMSY is well estimated. The Groundfish FMP allows use of a directly-estimated BMSY target and defines the overfished level as no less than 50 percent of the directly-estimated BMSY. The draft assessment estimates the stock spawning biomass is at 61 percent of the directly-estimated BMSY and therefore may not be overfished under a directly-estimated BMSY target.

The Council's Scientific and Statistical Committee (SSC) did not recommend the petrale sole assessment for management decision-making at their June 2009 meeting, but will review it further during summer 2009, and it will be presented for final adoption at the Council's September 2009 meeting. The SSC will also further explore the use of a deterministic BMSY target for the stock when they meet this summer. While the petrale sole assessment is not yet adopted for use in making management decisions, projections from the draft assessment indicate that stock spawning biomass will be driven to a lower level of depletion if the entire 2009 and 2010 OYs are taken. If the entire current 2009 and 2010 OYs are taken, by 2011 the spawning biomass is projected to decline to less than 50 percent of directy-estimated BMSY in this case, which is an overfished state even under a deterministic BMSY target.

Changes to Petrale Sole Harvest Specifications

At their June 2009 meeting, the Council identified a point of concern under FMP section 6.2.2 and recommended that NMFS take action to reduce harvest of petrale sole in 2009 and 2010 in response to the preliminary results of the new 2009 stock assessment. The primary purpose of this recommendation is to prevent the status of the petrale sole stock from falling below the overfished threshold at the start of 2011.

In June 2009, the Groundfish Management Team (GMT), an advisory body to the Council, prepared a preliminary analysis of a range of petrale sole harvest levels for Council consideration. This analysis examined how different levels of petrale sole harvest in 2009 and 2010 affected the petrale sole stock status at the beginning of 2011, under the base case model in the preliminary 2009 petrale sole stock assessment. Based on the results of the GMTs preliminary analysis, the Council chose a preliminary preferred alternative to reduce the existing 2010 petrale sole coastwide OY by 1,200 mt. This action proposes to establish a new 2010 petrale sole coastwide OY of 1,193 mt (Table 2a).

Though this action does not propose a change in harvest specifications for petrale sole in 2009, it does propose changes to management measures in order to reduce projected mortality of petrale sole in 2009 by approximately 400 mt. Implementing management measures that reduce petrale sole catch in 2009, when combined with reductions in the petrale sole OY for 2010 (and concurrent changes to management measures), results in an increase from 9 percent unfished biomass to 13 percent unfished biomass and from 48 percent to 68 percent of the directy-estimated BMSY under the base case model in the preliminary 2009 stock assessment.

Based on the analysis presented above, the Council recommended and NMFS is proposing the following changes to petrale sole harvest specifications: reducing the 2010 petrale sole coastwide OY of 2,393 mt by 1,200 mt, resulting in a new 2010 coastwide petrale sole OY of 1,193 mt. This proposed change is listed in Table 2a to 50 CFR 660, Subpart G.

Changes to Management Measures Affecting Petrale Sole

Petrale sole is almost exclusively caught in the limited entry non-whiting commercial trawl fishery. Therefore, proposed changes to management measures are only considered in the limited entry non-whiting trawl fishery. The Council recommended preliminary preferred alternative management measures for November-December 2009 and for January-December 2010 to reduce projected catch of petrale sole by approximately 400 mt in 2009 and to prevent projected mortality of petrale sole from exceeding the preliminary preferred 2010 petrale sole OY. In order to reduce projected catches of petrale sole in 2009 and 2010 this proposed rule adjusts management measures that are routinely adjusted during the year to respond to updated fishery information, as described at § 660.370, and does not impose any new management measures. The Council's preliminary preferred alternative management measures result in approximately 1,995 mt projected catch of petrale sole in 2009 and approximately 1,178 mt projected catch of petrale sole in 2010. Changes to management measures include adjusting the seaward boundary of the trawl RCA coastwide and reducing petrale sole cumulative trip limits and/or sub-limits for all trawl gears coastwide.

Based on the need to reduce catches in 2009 and 2010 to prevent petrale sole stock status from falling below the overfished threshold at the beginning of 2011, the Council recommended and NMFS is proposing changes to management measures in November-December 2009 and for all of 2010. For November-December (Period 6) 2009, the Council recommended and NMFS is proposing the following: shifting the seaward boundary of the trawl RCA to a boundary line approximating the 200-fm (366-m) depth contour North of 40 10' N. lat.; and reducing petrale sole cumulative trip limits and/or sub-limits to 2,000 lb (907 kg) per two months for vessels using all limited entry trawl gear types, coastwide. These proposed 2009 changes are shown in 2009 tables 3 (North) and 3 (South). For 2010, the Council recommended and NMFS is proposing the following: shifting the seaward boundary of the trawl RCA to a boundary line approximating the 200-fm (366-m) depth contour from January-April (Periods 1 and 2) and September-December (Periods 5 and 6) North of 40 10' N. lat.; shifting the seaward boundary of the trawl RCA to a boundary line approximating the 200-fm (366-m) depth contour from January-December South of 40 10' N. lat.; reducing petrale sole cumulative trip limits and/or sub-limits to 1,000 lb (454 kg) per two months for vessels using all limited entry trawl gear types, coastwide, during January-February (Period 1) and November-December (Period 6); reducing petrale sole sub-limits to 18,000 lb (8,165 kg) per two months for vessels using all limited entry trawl gear types, coastwide, from March-October (Periods 2 through 5). These proposed changes to 2010 trip limits are shown in 2010 Tables 3 (North) and 3 (South).

Harvest Specifications and Management Measures for Canary Rockfish in 2010

2007 Canary Rockfish Stock Assessment

Canary rockfish was last assessed in 2007. The results of that stock assessment and rebuilding analysis were the basis for the 2009-2010 harvest specifications, and represented the best available science at that time. For additional discussion of the results of the 2007 canary rockfish stock assessment, see the December 31, 2008 proposed rule, 73 FR 80516. The 2009-2010 harvest specifications and revisions to the rebuilding plan for canary rockfish were established on March 1, 2009. The approach used for setting the 2009-2010 harvest specifications for canary rockfish was the same as that used for setting the 2007-2008 harvest specifications under FMP Amendment 16-4. The 2007 stock assessment fundamentally changed the understanding of stock productivity. The SSC, therefore, recommended changing the Am. 16-4 rebuilding plan. In the rebuilding plan, the Council revised the target rebuilding year from 2063 to 2021 (which was two years longer than F0), but maintained the existing SPR of 88.7%. Nonetheless, the adopted OY for 2009 and 2010 of 105 mt was based on a more conservative SPR of 92.2%. The March 6, 2009 final rule (74 FR 9874) established the 2009 and 2010 coastwide canary rockfish harvest specifications, including the OYs of 105 mt in 2009 and 2010.

2009 Canary Rockfish Stock Assessment

An updated stock assessment for canary rockfish was presented to the Council at their June 2009 meeting. The stock assessment indicated the canary rockfish stock is depleted to 23.7 percent of its unfished biomass, compared with a 32.4 percent depletion in 2007. The stock is increasing, but based on the new information in the new stock assessment, the rebuilding plan will need to be revised, and it is anticipated that lower OYs will be required. The Council's SSC recommended the canary rockfish assessment for management decision-making at their June 2009 meeting. At the November Council meeting the PFMC will receive the rebuilding analysis for canary rockfish based on the 2009 stock assessment, for use in the 2011-2012 specifications process. At that time the Council will also decide whether to recommend a revision to the 2010 canary rockfish OY in order to smooth the transition to the revised rebuilding plan and to facilitate rebuilding.

Changes to 2010 Canary Rockfish OY

At their June 2009 meeting, the Council recommended that NMFS take action to reduce catches of canary rockfish in 2010 in response to the results of the new 2009 stock assessment update. The primary purpose of taking precautionary measures is to facilitate rebuilding of canary rockfish, and to reduce the socioeconomic impacts of a sudden reduction in harvest specifications that will likely be implemented in 2011. Under the FMP, harvest specifications for species subject to rebuilding requirements may be modified during the biennium if the Council determines they are not adequately conservative to meet rebuilding plan goals. FMP Section 5.5.1

Canary rockfish is currently overfished and subject to a rebuilding plan. The results of the new rebuilding analysis, that will be based on the new stock assessment update, are scheduled to be presented to the Council at their October 31-November 5, 2009, meeting. At that time, while the Council is considering revisions to the rebuilding plan for 2011 and beyond, they will also consider whether changes should be made in 2010 for the reasons explained above.

Based on the need to first consider the new rebuilding analysis for 2011-2012 OYs, the Council has not chosen a preferred canary rockfish OY alternative for 2010. Therefore, a range of OYs between 44 mt and 105 mt is proposed in Table 2a of this proposed rule. No changes to catch apportionment of the new 2010 OY are proposed at this time; however, the Council may consider changes to canary rockfish catch apportionment at their September or November 2009 meetings. A final preferred alternative for canary rockfish OY in 2010 will be considered in a supplement to the EA. Changes to 2010 canary rockfish harvest specifications would be implemented in a separate final rule, after the November 2009 Council meeting. Any revisions are anticipated to be in effect on January 1, 2010.

Changes to Management Measures Affecting Canary Rockfish

Canary rockfish are caught incidentally in almost every sector of the Pacific Coast groundfish fishery, North of 34° 27' N. lat. To reduce projected catch of canary rockfish below a lower 2010 OY would likely require that additional restrictions be placed on the following fisheries: limited entry non-whiting trawl; limited entry non-tribal whiting trawl; Washington, Oregon, and northern California recreational groundfish; and nearshore commercial non-trawl. The types of potential management changes include, but are not limited to: expansion of the trawl RCA to close areas with high canary bycatch for all or part of the year; expansion of the non-trawl RCA to close areas with high canary bycatch for all or part of the year; reductions in trip limits for co-occurring shelf species in both the LE trawl fishery and in the LE fixed gear fishery and open access commercial fishery; reductions in trip limits for vessels using selective flatfish trawl gear; reductions in recreational fishery season length; closures of recreational fisheries in some areas of the coast for a portion of the year; reduction in recreational bag limits for rockfish or other co-occurring species; a reduction in the bycatch limit for canary rockfish in the LE non-tribal whiting fishery; and the non-whiting Exempted Fishing Permits (EFPs) may also be restricted or terminated in 2010 to reduce their projected catch of canary rockfish (approximately 2.7 mt).

At their November 2009 meeting where the Council will consider potential changes to the 2010 OY, the Council will consider a wide range of routine management measure alternatives for reducing projected catches of canary rockfish to stay within the new OY. Consideration of new rebuilding information and potential changes to routine management measures will allow the Council to recommend interim measures that would reduce canary rockfish impacts in 2010. A final preferred alternative for canary rockfish management measures in 2010 will be considered in a supplement to the EA. Changes to management measures to reduce projected catch of canary rockfish will be implemented in a separate final rule, after the November 2009 Council meeting. These management measures are anticipated to be in effect on January 1, 2010.

Classification

At this time, NMFS has preliminarily determined that the revisions to 2009-2010 harvest specifications and management measures for canary rockfish and petrale sole proposed in this rule are consistent with the national standards of the Magnuson-Stevens Act and other applicable laws. NMFS, in making the final determination, will take into account the data, views, and comments received during the comment period.

A DEA was prepared for the revisions to the 2009-2010 harvest specifications and management measures for petrale sole and canary rockfish. A copy of the DEA is available online at http://www.nwr.noaa.gov/.

The Council considered two sets of alternatives for revising the 2009-2010 harvest specifications and management measures for petrale sole and canary rockfish. The first set of alternatives considered more restrictive management measures to reduce catch of petrale sole in 2009 and new harvest specifications for petrale sole in 2010 and management measures necessary to keep projected impacts to petrale sole below the new 2010 OY. The second set of alternatives considered new harvest specifications for canary rockfish in 2010 and a range of management measures necessary to keep projected impacts to canary rockfish below the alternative 2010 OYs.

The range of management measure alternatives intended to keep total catch of canary at the low end of the ABC/OY alternatives are considered here, since these were the alternatives the Council evaluated in the 2009 and 2010 rulemaking for their effects on small entities.

NMFS has initially determined that this proposed rule is not significant for purposes of Executive Order 12866.

An IRFA was prepared, as required by section 603 of the Regulatory Flexibility Act (RFA). The IRFA describes the economic impact this proposed rule, if adopted, would have on small entities. A summary of the analysis follows. A copy of this analysis is available from NMFS (see ADDRESSES).

The Small Business Administration has established size criteria for all major industry sectors in the US including fish harvesting and fish processing businesses. The RFA recognizes and defines three kinds of small entities: small businesses, small organizations, and small governmental jurisdictions.

Most permit owners and vessel owners are independent fishermen who are owner/operators of their vessel or members of family owned businesses or members of small partnerships. As such, they are considered to be a small business. Because canary rockfish is taken as bycatch in most groundfish fisheries the description of small entities associated with the 2009 EIS (73 FR 80516) is applicable. The Council estimates that nearly 2,600 small entities harvest groundfish. These entities include those that either target groundfish or harvest groundfish as bycatch and include limited entry trawlers and fixed gear, open access participants, the west coast charterboat fleet, and the tribal fleets. Included in this estimate are businesses, probably fewer than 30, that should be classified as “large” businesses as they are affiliates or components of large processing companies. Following past practice, the Council classifies the four catcher-processors that fish and process in the whiting fishery “large” entities as they are components of large international seafood companies. Noting the exceptions above, the Council has classified all harvesters in the groundfish fishery as “small businesses.”

In summary, using Small Business Administration standards, most of the estimated 2,600 entities that harvest groundfish are small businesses. The exceptions are the catcher vessels who also fish off Alaska, some shoreside processors, and all catcher-processors and motherships (less than 30) that are affiliated with larger processing companies or large international seafood companies.

Under the no action petrale sole alternative, groundfish revenues by the non-whiting trawl fleet would be about $28 million in 2009 and in 2010. Under the Council's preferred alternative (P2), the 139 vessels in this fishery would collectively earn $27 million in 2009 and $26 million in 2010. Between 30 and 35 of these vessels would see their revenues fall by more than 5 percent.

By reducing the 2009 petrale sole harvest and the 2010 petrale sole OY, we may prevent petrale sole from being in an overfished status in 2011, or speed the rebuilding of petrale if it is found to be overfished. By reducing the 2010 canary OY we may facilitate rebuilding of canary rockfish and ease the negative impact on industry from the reduced canary rockfish harvest specifications that will likely result in 2011-2012 from the new stock assessment and rebuilding analysis.

There are no reporting, recordkeeping or other compliance requirements in the proposed rule.

No Federal rules have been identified that duplicate, overlap, or conflict with this action.

NMFS issued Biological Opinions under the ESA on August 10,1990, November 26,1991, August 28,1992, September 27,1993, May 14, 1996, and December 15, 1999 pertaining to the effects of the Pacific Coast groundfish FMP fisheries on Chinook salmon (Puget Sound, Snake River spring/summer, Snake River fall, upper Columbia River spring, lower Columbia River, upper Willamette River, Sacramento River winter, Central Valley spring, California coastal), coho salmon (Central California coastal, southern Oregon/northern California coastal), chum salmon (Hood Canal summer, Columbia River), sockeye salmon (Snake River, Ozette Lake), and steelhead (upper, middle and lower Columbia River, Snake River Basin, upper Willamette River, central California coast, California Central Valley, south/central California, northern California, southern California). These biological opinions have concluded that implementation of the FMP for the Pacific Coast groundfish fishery was not expected to jeopardize the continued existence of any endangered or threatened species under the jurisdiction of NMFS, or result in the destruction or adverse modification of critical habitat.

NMFS reinitiated a formal section 7 consultation under the ESA in 2005 for both the Pacific whiting midwater trawl fishery and the groundfish bottom trawl fishery. The December 19, 1999, Biological Opinion had defined an 11,000 Chinook incidental take threshold for the Pacific whiting fishery. During the 2005 Pacific whiting season, the 11,000 fish Chinook incidental take threshold was exceeded, triggering reinitiation. Also in 2005, new data from the West Coast Groundfish Observer Program became available, allowing NMFS to complete an analysis of salmon take in the bottom trawl fishery.

NMFS prepared a Supplemental Biological Opinion dated March 11, 2006, which addressed salmon take in both the Pacific whiting midwater trawl and groundfish bottom trawl fisheries. In its 2006 Supplemental Biological Opinion, NMFS concluded that catch rates of salmon in the 2005 whiting fishery were consistent with expectations considered during prior consultations. Chinook bycatch has averaged about 7,300 fish over the last 15 years and has only occasionally exceeded the reinitiation trigger of 11,000 fish.

Since 1999, annual Chinook bycatch has averaged about 8,450 fish. The Chinook ESUs most likely affected by the whiting fishery has generally improved in status since the 1999 section 7 consultation. Although these species remain at risk, as indicated by their ESA listing, NMFS concluded that the higher observed bycatch in 2005 does not require a reconsideration of its prior “no jeopardy” conclusion with respect to the fishery. For the groundfish bottom trawl fishery, NMFS concluded that incidental take in the groundfish fisheries is within the overall limits articulated in the Incidental Take Statement of the 1999 Biological Opinion. The groundfish bottom trawl limit from that opinion was 9,000 fish annually. NMFS will continue to monitor and collect data to analyze take levels. NMFS also reaffirmed its prior determination that implementation of the Groundfish FMP is not likely to jeopardize the continued existence of any of the affected ESUs.

Lower Columbia River coho (70 FR 37160, June 28, 2005) were recently listed and Oregon Coastal coho (73 FR 7816, February 11, 2008) were recently relisted as threatened under the ESA. The 1999 biological opinion concluded that the bycatch of salmonids in the Pacific whiting fishery were almost entirely Chinook salmon, with little or no bycatch of coho, chum, sockeye, and steelhead. The Southern Distinct Population Segment (DPS) of green sturgeon (71 FR 17757, April 7, 2006) were also recently listed as threatened under the ESA. As a consequence, NMFS has reinitiated its Section 7 consultation on the PFMC's Groundfish FMP.

After reviewing the available information, NMFS concluded that, in keeping with Sections 7(a) (2) and 7(d) of the ESA, the proposed action would not result in any irreversible or irretrievable commitment of resources that would have the effect of foreclosing the formulation or implementation of any reasonable and prudent alternative measures.

With regards to marine mammals, sea turtles, and seabirds, we are reviewing the available data on fishery interactions and have entered into pre-consultation with the United States Fish and Wildlife Service, NMFS and other Federal agencies. In additions, we have begun discussions with Council staff on the process to address the concerns, if any, that arise from our review of the data.

Pursuant to Executive Order 13175, this proposed rule was developed after meaningful consultation and collaboration with tribal officials from the area covered by the FMP. Under the Magnuson-Stevens Act at 16 U.S.C. 1852(b)(5), one of the voting members of the Pacific Council must be a representative of an Indian tribe with federally recognized fishing rights from the area of the Council's jurisdiction.

List of Subjects in 50 CFR Part 660

Fisheries, Fishing, Indian Fisheries.

Dated: September 8, 2009.
Samuel D. Rauch III,
Deputy Assistant Administrator for Regulatory Programs, National Marine Fisheries Service.

For the reasons set out in the preamble, 50 CFR part 660 is proposed to be amended as follows:

PART 660—FISHERIES OFF WEST COAST STATES

1. The authority citation for part 660 continues to read as follows:

Authority: 16 U.S.C. 1801 et seq. and 16 U.S.C. 773 et seq.

2. Tables 2a and 2c to part 660, subpart G, and footnotes “/k” and “/r” are revised to read as follows:

BILLING CODE 3510-22-S

BILLING CODE 3510-22-C

/k A petrale sole stock assessment was prepared for 2005. In 2005 the petrale sole stock was estimated to be at 32 percent of its unfished biomass coastwide (34 percent in the northern assessment area and 29 percent in the southern assessment area). The 2010 ABC of 2,751 mt is based on the 2005 assessment with a F40% FMSY proxy. To derive the 2010 OY, the 40 10 harvest policy was applied to the ABC for both the northern and southern assessment areas. As a precautionary measure, an additional 25 percent reduction was made in the OY contribution for the southern area due to assessment uncertainty. As another precautionary measure, an additional 1,200 mt reduction was made in the coastwide OY due to preliminary results of the more pessimistic 2009 stock assessment. The coastwide OY is 1,193 mt in 2010.

/r A canary rockfish stock assessment was completed in 2007 and the stock was estimated to be at 32.7 percent of its unfished biomass coastwide in 2007. The coastwide ABC of 940 mt is based on a FMSY proxy of F50%. The OY of 105 mt is based on a rebuilding plan with a target year to rebuild of 2021 and a SPR harvest rate of 88.7 percent. An OY of 44 mt or 85 mt would be based on a new rebuilding analysis to be considered in November 2009.

3. Beginning November 1, 2009, Tables 3 (North) and 3 (South) to part 660, subpart G are revised to read as follows:

BILLING CODE 3510-22-S

4. Beginning January 1, 2010, Tables 3 (North) and 3 (South) to part 660, subpart G are revised to read as follows:

[FR Doc. E9-21960 Filed 9-10-09; 8:45 am]

BILLING CODE 3510-22-C